FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-33, “FRB—Telephone Call Detail Records” to reflect changes in the format, location, and source of its wireless phone records. The Board also proposes to rename the system of records BGFRS-33, “FRB—Wired and Wireless Telephone Records,” as it stores information on the use of Board telephones, both wired and wireless.

DATES: Comments must be received on or before December 31, 2020. This modified system of records will become effective December 31, 2020, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-33: “FRB—Wired and Wireless Telephone Records”, by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically or in paper in Room 146, 1709 New York Avenue NW, Washington, DC 20006, between 9:00 a.m. and 5:00 p.m. on weekdays.

FOR FURTHER INFORMATION CONTACT: David B. Husband, Counsel, (202) 530-6270, or david.b.husband@frb.gov; Legal Division, Board of Governors of the Federal Reserve System, 20th Street and Constitution Avenue NW, Washington DC 20551.

SUPPLEMENTARY INFORMATION: The Board is modifying this system of records to reflect changes in the format, location, and source of its wireless phone records. The Board previously received wireless phone records from the vendors in paper copy and, after reviewing the records, transferred them to off-site storage. The Board now receives wireless phone records electronically, from both vendors and, in some cases, the devices themselves, and retains the electronic copy. Accordingly, the Board is amending the system name to reflect that the scope of the records stored in this system includes both wired and wireless phone records. The Board is also updating the system managers, adding context on the use of the records, and delineating that both wired and wireless phone records are included in the records.

To reflect these changes, the Board has updated the sections on system location, system manager, and the purposes of the system. The Board has also updated the categories of individuals covered by the system, the categories of records in the system, the record source categories, the policies and practices for retrieval, and the administrative, physical, and technical safeguards sections. Finally, the Board has updated the routine uses section to include a link to the Board's general routine uses. The Board is not amending or establishing any routine uses.

The Board is also making technical changes to BGFRS-33 consistent with the template laid out in OMB Circular No. A-108. Accordingly, the Board has made technical corrections and non-substantive language revisions to the following sections: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new sections: “Security Classification” and “History.”

SYSTEM NAME AND NUMBER:

BGFRS-33 “FRB—Telephone Call Detail Records.”

SECURITY CLASSIFICATION:

Unclassified.

SYSTEM LOCATION:

Board of Governors of the Federal Reserve System, 20th Street and Constitution Avenue NW, Washington, DC 20551. The vendors are the original sources of the wireless and wired phone records, which the Board retains in its files or an offsite facility.

SYSTEM MANAGER(S):

The managers for this system of records are located at the Board's central offices: Board of Governors of the Federal Reserve System, 20th Street and Constitution Avenue NW, Washington DC, 20551. The manager for the wireless phone records is Thomas Murphy, Deputy Associate Director, Accounting and Operations, Division of Financial Management, (202) 452-3092, or Thomas.J.Murphy@frb.gov.The manager for the wired phone records is Delwyn Lee, Manager—Information Technology, Information Technology Division, (202) 530-6237, or delwyn.k.lee@frb.gov. The manager for wireless phone location-related records is Joseph Ng, Manager, Information Security Operations, Information Technology Division, (202) 452-6406, or joseph.ng@frb.gov.

AUTHORITY FOR MAINTENANCE OF THE SYSTEM:

Sections 10 and 11 of the Federal Reserve Act (12 U.S.C. 243 and 248 (k)).

PURPOSE(S) OF THE SYSTEM:

These records are collected and maintained to detect and prevent unauthorized, excessive, or other inappropriate use of the Board's wired and wireless telephones. Records are also utilized for metrics, cost control, investigative purposes, and to protect the integrity of the device and its associated data.

CATEGORIES OF INDIVIDUALS COVERED BY THE SYSTEM:

Past and present Board employees, contractors, or other individuals working at the Board, including detailees or secondees, who have been provided a telephone by the Board.

CATEGORIES OF RECORDS IN THE SYSTEM:

Records relating to use of Board telephones to place local and long distance telephone calls; records indicating assignment of telephone numbers to individuals covered by the system; and records relating to location of telephones.

RECORD SOURCE CATEGORIES:

Information is provided by the telephone assignment records, call detail listings, the device itself, and the results of administrative inquiries relating to telephone calls that are the subject of the inquiry.

ROUTINE USES OF RECORDS MAINTAINED IN THE SYSTEM, INCLUDING CATEGORIES OF USERS AND PURPOSES OF SUCH USES:

General routine uses A, B, C, D, F, G, I, and J apply to this system. These general routine uses are located at https://www.federalreserve.gov/files/SORN-page-general-routine-uses-of-board-systems-of-records.pdf and are published in the Federal Register at 83 FR 43872 at 43873-74 (August 28, 2018). Records may also be used to disclose information to current or former Board employees and other individuals currently or formerly provided telephone services by the Board regarding their usage of the phones.

POLICIES AND PRACTICES FOR STORAGE OF RECORDS:

Paper records (wired phones only) in this system are stored in folders with access limited to staff with a need-to-know. Electronic records (wired and wireless) are stored on a secure server with access limited to staff with a need-to-know.

POLICIES AND PRACTICES FOR RETRIEVAL OF RECORDS:

Records can be retrieved by name, telephone number, extension, or number(s) dialed.

POLICIES AND PRACTICES FOR RETENTION AND DISPOSAL OF RECORDS:

Wired and wireless telephone use records and wireless telephone location records are retained for three years and wired telephone bills and wireless telephone bills are retained for six years. The retention for wireless telephone use records is under review.

ADMINISTRATIVE, TECHNICAL, AND PHYSICAL SAFEGUARDS:

Board records stored in paper copy are physically secured by lock and key. Board records scanned into the Board's electronic recordkeeping system are stored on secure servers. The recordkeeping system has the ability to track individual user actions within the system and access is restricted to authorized users within the Board who require access for official business purposes. In addition, users are classified into different roles and common access and usage rights are established for each role. User roles delineate between the different types of access requirements such that users are restricted to data that is required in the performance of their duties. Periodic assessments and reviews are conducted to determine whether users still require access, have the appropriate role, and whether there have been any unauthorized changes. These system controls assist in preventing and detecting security violations and performance or other issues in accordance with NIST and Board standards which, in turn, are based on applicable laws and regulations.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY:

This SORN was previously published in the Federal Register at 73 FR 24984 at 24987 (May 6, 2008). The SORN was also amended to incorporate two new routine uses required by OMB at 83 FR 43872 (August 28, 2018).

Board of Governors of the Federal Reserve System.
Ann Misback,
Secretary of the Board.

[FR Doc. 2020-26430 Filed 11-30-20; 8:45 am]

BILLING CODE 6210-01-P